DEPARTMENT OF ENERGY

Federal Energy Regulatory Commission

[Docket Nos. EC03-127-000, et al.]

IDACORP Energy L.P., et al.; Electric Rate and Corporate Filings

August 25, 2003.

The following filings have been made with the Commission. The filings are listed in ascending order within each docket classification.

1. IDACORP Energy L.P.

Sempra Energy Trading Corp.

[Docket No. EC03-127-000]

Take notice that on August 20, 2003, IDACORP Energy L.P. (IELP) and Sempra Energy Trading Corp. (SET) filed with the Federal Energy Regulatory Commission (Commission) an application pursuant to Section 203 of the Federal Power Act and 18 CFR part 33 for authority to transfer all of the wholesale power sales contracts of IELP to SET. The Applicants request that the Commission act on the application so that the transfer may be consummated before October 1, 2003

Comment Date: September 10, 2003.

2. Citizens Communication Company v. Vermont Electric Power Company, Inc.

[Docket No. EC03-128-000]

Take notice that on August 21, 2003, Citizens Communications Company (Citizens) and Vermont Electric Power Company, Inc. (VELCO) filed with the Federal Energy Regulatory Commission (Commission) a joint application pursuant to Section 203 of the Federal Power Act for authorization of a disposition of jurisdictional facilities whereby Citizens will sell certain transmission facilities to VELCO.

Comment Date: September 11, 2003.

3. Butler Ridge, LLC

[Docket No.EG03-95-000]

Take notice that on August 21, 2003, Butler Ridge, LLC (the Applicant), with its principal office at c/o Midwest Wind Energy, LLC, 205 W. Monroe Street, 4th Floor, Chicago, IL 60606, filed with the Federal Energy Regulatory Commission (Commission) an application for determination of exempt wholesale generator status pursuant to part 365 of the Commission's regulations.

Applicant states that it is a Delaware limited liability company engaged directly and exclusively in the business of developing, owning and operating an approximately 54 MW wind generating facility located in Dodge County, Wisconsin. Applicant further states that electric energy produced by the facility will be sold exclusively at wholesale by Applicant.

Comment Date: September 15, 2003.

4. Southwest Power Pool, Inc.

[Docket No. ER03-896-001]

Take notice that on August 21, 2003, Southwest Power Pool, Inc. (SPP) submitted for filing a response to a deficiency letter issued by the Federal Energy Regulatory Commission on July 22, 2003 in the above-captioned proceeding. The proceeding involves an unexecuted service agreement between SPP and the Kansas Municipal Energy Agency.

SPP states that it served a copy of the filing on all parties on the official service list compiled by the Secretary in this proceeding.

Comment Date: September 11, 2003.

5. Central Hudson Gas & Electric Corporation

[Docket No. ER03-1227-000]

Take notice that on August 20, 2003, Central Hudson Gas & Electric Corporation (Central Hudson) tendered for filing proposed changes in its Rate Schedule FERC No. 202 which sets forth the terms and charges for substation service provided by Central Hudson to Consolidated Edison Company of New York, Inc.

Central Hudson requests waiver on the notice requirements set forth in 18 CFR 35.11 of the Regulations to permit charges to become effective January 1, 2003 as agreed to by the parties.

Central Hudson states that a copy of its filing was served on Con Edison and the State of New York Public Service Commission.

Comment Date: September 10, 2003.

6. Avista Corporation

[Docket No. ER03-1228-000]

Take notice that on August 20, 2003, Avista Corporation (AVA) filed with the Federal Energy Regulatory Commission (Commission) a Notice of Termination of Rate Schedule No. 185, a Service Agreement with El Paso Merchant Energy, L.P. previously filed under the Commission's Docket No. ER98-4633-000, effective August 15, 2003.

Comment Date: September 10, 2003.

7. Nevada Power Company

[Docket No. ER03-1230-000]

Take notice that on August 21, 2003, Nevada Power Company (Nevada Power), tendered for filing pursuant to Section 35 of the Federal Power Act, an executed Service Agreement for Network Integration Transmission Service Retail Access Transmission Service (Transmission Service Agreement) between Nevada Power Company and Coral Power, L.L.C. as Scheduling Coordinator for Rouse Fashion Show Management, LLC., the End-Use Customer and an executed Network Operating Agreement between Nevada Power Company and Coral Power, L.L.C. The Transmission Service Agreement and the Network Operating Agreement are being filed in compliance with Section 29.5 of the Sierra Pacific Resources Operating Companies' Open Access Transmission Tariff.

Nevada Power Company has requested the Commission accept the Transmission Service Agreement and the Network Operating Agreement and permit service in accordance therewith effective October 1, 2003.

Comment Date: September 10, 2003.

8. Nevada Power Company

[Docket No. ER03-1231-000]

Take notice that on August 21, 2003, Nevada Power Company (Nevada Power), tendered for filing pursuant to Section 35 of the Federal Power Act, an executed Service Agreement for Network Integration Transmission Service Retail Access Transmission Service (Transmission Service Agreement) between Nevada Power Company and Coral Power, L.L.C. as Scheduling Coordinator for Rouse Fashion Show Management, LLC., the End-Use Customer and an executed Network Operating Agreement between Nevada Power Company and Coral Power, L.L.C. The Transmission Service Agreement and the Network Operating Agreement are being filed in compliance with Section 29.5 of the Sierra Pacific Resources Operating Companies' Open Access Transmission Tariff.

Nevada Power Company has requested the Commission accept the Transmission Service Agreement and the Network Operating Agreement and permit service in accordance therewith effective October 1, 2003.

Comment Date: September 11, 2003.

9. West Penn Power Company (DBA Allegheny Power)

[Docket No. ER03-1232-000]

Take notice that on August 21, 2003, West Penn Power Company, dba Allegheny Power (Applicant), filed an Addendum to its Electric Service Agreement with PPL Electric Utilities Corporation, formerly Pennsylvania Power & Light Company, to add one new delivery point. An effective date for the new delivery point of September 1, 2003 is requested.

Applicant states that copies of the filing have been provided to the customer, the Public Utilities Commission of Ohio, the Pennsylvania Public Utility Commission, the Maryland Public Service Commission, the Virginia State Corporation Commission and the West Virginia Public Service Commission.

Comment Date: September 11, 2003.

10. Duke Energy Washoe, LLC

[Docket No. ER03-1233-000]

Take notice that, on August 21, 2003, Duke Energy Washoe, LLC tendered for filing a Notice of Cancellation pursuant to 18 CFR 35.15, in order to reflect the cancellation of its market-based rate tariff, designated as FERC Electric Tariff, Original Volume No. 1, originally accepted for filing in Docket No. ER01-241-000.

Comment Date: September 11, 2003.

11. Arizona Public Service Company

[Docket No. ER03-1234-000]

Take notice that on August 21, 2003, Arizona Public Service Company (APS) tendered for filing revisions to its Long-Term Power Transactions Agreement with PacifiCorp (PAC) applicable under the APS-FERC Rate Schedule No. 182. APS requests an effective date of November 13, 2000 for the requested changes.

APS states that copies of this filing have been served on PAC, the California Public Utilities Commission, the Public Utility Commission of Oregon, the Utah Public Service Commission, the Washington Utilities and Transportation Commission, the Montana Public Service Commission, the Public Service Commission of Wyoming, the Idaho Public Utilities Commission, and the Arizona Corporation Commission.

Comment Date: September 11, 2003.

12. Citizens Communications Company

[Docket No. ER03-1235-000]

Take notice that on August 21, 2003, pursuant to section 205 of the Federal Power Act, Citizens Communications Company (Citizens) filed with the Federal Energy Regulatory Commission (Commission) proposed changes in its Open Access Transmission Tariff, Block Loading Facilities Transmission Agreement (FERC Rate Schedule No. 28), and FPC No. 10 successor agreements (FERC Rate Schedule Nos. 29, 31 and 32). The changes are proposed in connection with a joint application by Citizens and Vermont Electric Power Company, Inc. (VELCO) pursuant to section 203 of the Federal Power Act for authorization of the sale by Citizens of certain jurisdictional transmission facilities to VELCO. Citizens states that the purpose of the rate changes is to implement a stipulation that was recently entered into between and among Citizens, its major Vermont wholesale transmission customers, and the Vermont Department of Public Service.

Citizens states that copies of the filing were filed upon Citizens' jurisdictional customers, the Vermont Department of Public Service, and the Vermont Public Service Board.

Comment Date: September 11, 2003.

13. Sierra Pacific Power Company Nevada Power Company

[Docket No. ER03-1236-000]

Take notice that on August 21, 2003, Sierra Pacific Power Company and Nevada Power Company (collectively, Applicants) tendered for filing with the Federal Energy Regulatory Commission (Commission), pursuant to Section 205 of the Federal Power Act and Section 35 of the Commission's Regulations, an amendment to Section 17.7 of Sierra Pacific Resources Operating Companies FERC Electric Tariff, Third Revised Volume No. 1 (the OATT). The Applicants state that this amendment is necessary to address requests for the extension of the commencement of service over Nevada Power's newly constructed Centennial Project. The Applicants request that the amendment be made effective as of May 1, 2003, so that it will apply equally to all Transmission Customers using the Centennial Project.

Comment Date: September 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-22462 Filed 9-3-03; 8:45 am]

BILLING CODE 6717-01-P